DEPARTMENT OF HEALTH AND HUMAN SERVICES

National Institutes of Health

Proposed Collection; Comment Request; Injuries Among Youth With Developmental Disabilities

SUMMARY: In compliance with the requirement of Section 3506(c)(2)(A) of the Paperwork Reduction Act of 1995, for opportunity for public comment on proposed data collection projects, the National Institute of Child Health and Human Development (NICHD), the National Institutes of Health (NIH) will publish periodic summaries of proposed projects to be submitted to the Office of Management and Budget (OMB) for review and approval.

Proposed Collection

Title: Injuries Among Youth with Developmental Disabilities. Type of Information Collection Request: New. Use of Information: The proposed study seeks (1) to determine if children with disabilities are at increased risk of injury compared to typically developing children, and (2) to identify which injuries children with developmental disabilities are at particular risk of sustaining. Existing data on this topic are scarce and equivocal. Results will help inform prevention efforts. NICHD proposes to collect information about disabilities among children with injuries through phone interviews with parents/guardians of children who were seen in an emergency department for an injury. This information will be collected in conjunction with the Consumer Product Safety Commission's (CPSC's) National Electronic Injury Surveillance System (NEISS). The NEISS is part of CPSC's routine data collection. Through this system, trained abstractors code information from all injury-related emergency department visits in the participating hospital. Additional information will be collected through “follow-back” phone interviews with parents/guardians of injured children seen in participating hospitals. NICHD will collect information on developmental disabilities among injured children e.g., cerebral palsy, blindness, deafness or trouble hearing, autism, and mental retardation), medical/psychological conditions e.g. epilepsy/seizures, ADHD), medication use, and other potential risk factors for injury including family structure, sibling characteristics, and caregiver supervision practices. Finally, NICHD would like to determine if typically developing children who have a sibling with a developmental disability, who may compete for supervisory time, are at a greater risk of injury than other children. This Interagency Agreement provides funds from NICHD to CPSC to complete 8000 telephone interviews with parents/guardians of injured children. The sample of interviewees will be derived from a larger sample of children who will be systematically selected from the NEISS system. Sampling will cover an entire year to account for seasonal variations in injury rates. Two thousand interviews will be conducted in 4 different age groups: 0-4 years, 5-9 years, 10-14 years, and 15-19 years. Intentional injuries will not be included in the sampling pool. Further, deaths and hospitalizations will be excluded. Interviews will be limited to those who can complete an interview in English or Spanish. Frequency of Response: One interview; Affected Public: Individuals or households; Type of Respondents: Parents or Guardians; The annual reporting burden is as follows: Estimated Number of Respondents: 8000. Estimated Number of Responses per Respondent: 1; Average Burden Hours Per Response 0.33; and Estimated Total Annual Burden Hours Requested: 2640. There are no Capital Costs, Operating Costs and/or Maintenance Costs to report.

Type of respondents | Estimated numbers of respondents | Estimated number of responses per respondent | Average burden hours per response | Estimated total annual burden hours requested
Parents/guardians | 8000 | 1 | .33 | 2640

Request for Comments

Written comments and/or suggestions from the public and affected agencies should address one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

FOR FURTHER INFORMATION CONTACT: To request more information on the proposed project or to obtain a copy of the data collection plans and instruments, contact: Gitanjali Saluja, Ph.D., 6100 Executive Blvd. Suite 7B03, Rockville, MD 20852. Phone: 301-435-6917. E-mail: salujag@mail.nih.gov

Comments Due Date

Comments regarding this information collection are best assured of having their full effect if received within 60-days of the date of this publication.

Dated: October 13, 2005.
Paul L. Johnson,
Project Clearance Liaison, NICHD, National Institutes of Health.

[FR Doc. 05-21116 Filed 10-21-05; 8:45 am]

BILLING CODE 4140-01-P